SECURITIES AND EXCHANGE COMMISSION

Sunshine Act Meeting Notice

Federal Register Citation of Previous Announcement: 68 FR 28302, May 23, 2003.

Status: Closed Meeting.

Place: 450 Fifth Street, NW., Washington, DC.

Date and Time of Previously Announced Meeting: Wednesday, May 28, 2003.

Change in the Meeting: Additional Item.

The following item has been added to the Closed Meeting of Wednesday, May 28, 2003:

Litigation matter.

Commissioner Glassman, as duty officer, determined that Commission business required the above change and that no earlier notice thereof was possible.

At times, changes in Commission priorities require alterations in the scheduling of meeting items. For further information and to ascertain what, if any, matters have been added, deleted or postponed, please contact the Office of the Secretary at (202) 942-7070.

Dated: May 28, 2003.
Jonathan G. Katz,
Secretary.

[FR Doc. 03-13762 Filed 5-28-03; 4:28 pm]

BILLING CODE 8010-01-P